DEPARTMENT OF THE INTERIOR

Fish and Wildlife Service

[FWS-R8-ES-2010-N043; 80221-1113-0000-C2]

Paiute Cutthroat Trout Restoration Project, Alpine County, CA

AGENCY: Fish and Wildlife Service, Interior.

ACTION: Notice of Availability: final environmental impact statement.

SUMMARY: This notice announces the availability of the Paiute Cutthroat Trout Restoration Project Final Environmental Impact Statement (EIS)/Environmental Impact Report (EIR) for public review. We, the Fish and Wildlife Service (Service), along with the Humboldt-Toiyabe National Forest (Cooperating Agency) and the California Department of Fish and Game (CDFG, California Environmental Quality Act lead agency) (collectively, agencies), are proposing to restore Paiute cutthroat trout to the species historical range within the Silver King Creek watershed, Alpine County, California. To accomplish this, the agencies must first eradicate the non-native and hybrid trout which currently occupy the habitat. We are publishing this notice to inform the public of the proposed action and to make available for review the Final EIS/EIR, which includes responses to public comments received on the March 2009, Draft EIS/EIR.

DATES: A Record of Decision will be signed no sooner than 30 days after the publication of the Environmental Protection Agency notice. We must receive comments by 5 p.m. on May 10, 2010.

ADDRESSES: Submit comments to Robert D. Williams, State Supervisor, by U.S. mail at Nevada Fish and Wildlife Office, 1340 Financial Boulevard, Suite 234, Reno, NV 89502; by telephone at (775) 861-6300 or by fax at (775) 861-6301.

FOR FURTHER INFORMATION CONTACT: Chad Mellison, Fish and Wildlife Biologist, at the address or telephone or fax numbers above.

SUPPLEMENTARY INFORMATION:

Availability of Documents

You may download copies of the EIS from the Nevada Fish and Wildlife Office Web site at: http://www.fws.gov/nevada. Alternatively, you may contact us by telephone or visit during regular business hours (see FOR FURTHER INFORMATION CONTACT).

In addition, copies of all documents are available at the Markleeville Library and Archives, 270 Laramie Street, P.O. Box 187, Markleeville, CA, 96120; (530) 694-2120.

Background

The Paiute cutthroat trout was listed as endangered by the Service under the Endangered Species Preservation Act of 1966 on March 11, 1967 (Service 1967) and reclassified to threatened under the Endangered Species Act of 1973 on July 16, 1975 (Service 1975). Silver King Creek, from Llewellyn Falls downstream to Silver King Canyon, and its associated tributaries in Alpine County, California, comprise the native historical range of the Paiute cutthroat trout (Oncorhynchus clarkii seleniris) (Service 2004).

The fish now present in the Silver King Creek watershed between Llewellyn Falls and Silver King Canyon are a genetic mixture of introduced rainbow trout (O. mykiss), Lahontan cutthroat trout (O. c. henshawi), golden trout (O. aquabonita ssp.), and Paiute cutthroat trout. Hybridization with nonnative trout species is the primary threat to Paiute cutthroat trout within its historical range (Service 2004). Fishery restoration efforts involving Paiute cutthroat trout span from 1950 to the present and include prior removals of nonnative and hybridized fish, as well as establishing and maintaining introduced populations of nonhybridized Paiute cutthroat trout. Populations of Paiute cutthroat trout have been established in several California streams outside the Silver King Creek watershed, including the North Fork of Cottonwood Creek and Cabin Creek in the Inyo National Forest (Mono County), Sharktooth Creek (Fresno County), and Stairway Creek (Madera County) both on the Sierra National Forest.

Paiute cutthroat trout are currently found in Silver King Creek upstream of Llewellyn Falls, where a previously-introduced population was restored by CDFG in the early 1990's and in other tributaries where populations have been established within the watershed (e.g., Four Mile Creek, Fly Valley Creek, Coyote Creek and Corral Valley Creek).

The project would implement the first and second recovery actions listed in the Paiute Cutthroat Trout Revised Recovery Plan (Service 2004) which lists actions to restore, recover, and ultimately delist the species. The objective of the proposed project is to return Paiute cutthroat trout back to its historical range and establish them as the only salmonid fish species in Silver King Creek to prevent hybridization with other trout. This is an important and necessary step in preventing Paiute cutthroat trout from going extinct and also in conserving the species and restoring it to a level that would allow it to be removed from the Federal threatened species list. Under current conditions, easy public access between stream reaches downstream and upstream of Llewellyn Falls may result in a future unauthorized transplant of nonnative and/or hybridized fish to areas above the falls.

Under the proposed project, the agencies would: (1) Use chemical treatment (rotenone) to eradicate nonnative trout from Silver King Creek and its tributaries between Llewellyn Falls and Silver King Canyon; (2) Neutralize the rotenone downstream of Silver King Canyon to the 30-minute travel time mark near the confluence with Snodgrass Creek using potassium permanganate; and (3) Restock the project area with Paiute cutthroat trout from established donor streams in the upper Silver King Creek watershed (i.e., Fly Valley, Four Mile, Silver King Creek, or possibly Coyote Creek).

The proposed stocking of Paiute cutthroat trout will expand the current population size and distribution downstream from Llewellyn Falls to a series of six impassible fish barriers in Silver King Canyon and associated tributaries. These barriers, the two highest being 8 and 10 feet high, would prevent any reinvasion of nonnative trout from areas downstream of the project area and greatly reduce the likelihood of and impacts from any future illegal nonnative species introduction. By expanding the populations and range of the species, the project would also increase the probability of long-term viability and reduce threats from genetic bottlenecking and stochastic events.

The proposed project also includes pre-treatment biological surveys and monitoring for amphibians and aquatic macroinvertebrates; placement of signs to inform the public; water quality monitoring (during and post treatment); and post-treatment biological monitoring. The Agencies would apply rotenone to the project area in the summers of 2010 and 2011 (and 2012 if needed). Additional treatments would be scheduled as necessary to ensure complete removal of nonnative trout from the project area.

National Environmental Policy Act Compliance

The analysis provided in the Final EIR/EIS is intended to accomplish the following: Inform the public of the agencies' proposed action and alternatives; address public comments received on the Draft EIS/EIR; disclose the direct, indirect, and cumulative environmental effects of our proposed action and alternatives; and indicate any irreversible commitment of resources that would result from implementation of the proposed action and alternatives. Additionally, the agencies responded to 21 individual comment letters on the Draft EIS/EIR. A response to each comment received in these letters has been included in the Final EIS/EIR (Appendix I). Additionally, the agencies received over 500 support letters for the project.

Public Involvement

The agencies issued a notice of intent to prepare an EIS/EIR for the proposed project, on June 2, 2006 (71 FR 32125) and a notice of availability of the Draft EIS/EIR for the proposed project on March 20, 2009 (74 FR 11965). The Draft EIS/EIR analyzed the potential environmental impacts that may result from the proposed action and alternatives.

Public Review

Copies of the final EIS are available for review (see Availability of Documents). Any comments received will become part of the administrative record and may be available to the public. Before submitting comments that include your address, phone number, e-mail address, or other personal identifying information, you should be aware that your entire comment, including your personal identifying information, may be made publicly available at any time. While you may ask us in your comment to withhold your personal identifying information from public review, we cannot guarantee that we will be able to do so.

The final EIS includes all comments we received on the draft EIS, and our responses to those comments. No decision will be made on the proposed action until at least 30 days after the Environmental Protection Agency's publication of their notice in the Federal Register. After the 30-day waiting period, we will complete a Record of Decision that announces the action that will be implemented and discusses all factors leading to the decision.

This notice is provided under regulations for implementing NEPA, as amended (40 CFR 1506.6).

Dated: April 1, 2010.
Ken McDermond,
Acting Regional Director, Pacific Southwest Region, Sacramento, California.

[FR Doc. 2010-7952 Filed 4-8-10; 8:45 am]

BILLING CODE 4310-55-P